DEPARTMENT OF THE TREASURY

Public Meeting of the Commission on Social Impact Partnerships

AGENCY: Department of the Treasury.

ACTION: Notice of meeting.

SUMMARY: The Commission on Social Impact Partnerships (“Commission”) will convene for a public meeting on Monday, October 28, 2019, via teleconference from 1:00 p.m.-4:00 p.m. Eastern Time. The meeting will be open to the public.

DATES: The meeting will be held on Monday, October 28, 2019, via teleconference from 1:00 p.m.-4:00 p.m. Eastern Time.

ADDRESSES: The public can attend remotely via teleconference. Treasury expects to make the teleconference details available on the Social Impact Partnerships to Pay for Results Act (“SIPPRA”) website (treasury.gov/sippra). Members of the public who would like to attend the meeting may visit the SIPPRA website or send an email to Elizabeth Sawyer (elizabeth.sawyer@treasury.gov) by 5:00 p.m. Eastern Time on Wednesday, October 23, 2019 containing each proposed attendee's email address and full name (first, middle, and last). Ms. Sawyer will provide the teleconference details to each interested attendee via email. Requests for reasonable accommodations under Section 504 of the Rehabilitation Act should be directed to Marcia Small Bowman, Office of Civil Rights and Diversity, Department of the Treasury, at 202-622-8177 or marcia.smallbowman@treasury.gov.

FOR FURTHER INFORMATION CONTACT: Holly Posin, the Designated Federal Officer (“DFO”) for the Commission, U.S. Department of the Treasury, 1500 Pennsylvania Ave. NW, Washington, DC 20020; via phone/voice mail at: (202) 622-3282; via fax at: (202) 622-2633; or via email at: holly.posin2@treasury.gov. Persons who have difficulty hearing or speaking may access this number via TTY by calling the toll-free Federal Relay Service at (800) 877-8339.

SUPPLEMENTARY INFORMATION: On February 9, 2018, the President signed the Bipartisan Budget Act of 2018, establishing the Commission under SIPPRA. The Commission's duties include making recommendations to Treasury on whether to fund social impact partnership grant applications. The Commission consists of nine members. Eight members are appointed by congressional leadership, and the ninth member is appointed by the President. The President's appointee serves as the Chair of the Commission. In accordance with section 10(a) of the Federal Advisory Committee Act, 5 U.S.C. App. 2, and the regulations thereunder, Holly Posin, DFO of the Commission, has ordered publication of this notice that the Commission will convene a meeting on October 28, 2019, via a telephone conference, 1:00 p.m.-4:00 p.m. Eastern Time. During this meeting, the Commission will discuss applications submitted to Treasury in response to the SIPPRA Notice of Funding Availability that Treasury published in the Federal Register on February 21, 2019. Treasury expects to make all documents discussed by the Commission available for public inspection and photocopying in Treasury's library in advance of the meeting. Treasury expects the Commission to make funding recommendations to Treasury at this meeting.

Submission of Written Statements: The public is invited to submit written statements to the Commission. Written statements should be sent by any one of the following methods:

Electronic Statements

Email: SIPPRA@treasury.gov, Attn: Holly Posin, Docket ID No. 03282019.

Paper Statements

Send paper statements to SIPPRA Commission, Attn: Holly Posin, Docket ID No. 03282019, U.S. Department of the Treasury, Main Treasury Building, Room 3127, 1500 Pennsylvania Avenue NW, Washington DC 20220. In general, Treasury will make all statements available in their original format, including any business or personal information provided such as names, addresses, email addresses, or telephone numbers, for public inspection and photocopying in Treasury's library located at Treasury Department Annex, 1500 Pennsylvania Avenue NW, Washington, DC 20220. The library is open on official business days between the hours of 10:00 a.m. and 4:30 p.m. You can make an appointment to inspect statements by calling (202) 622-0990. All statements received, including attachments and other supporting materials, are part of the public record and subject to public disclosure. You should only submit information that you wish to make publicly available.

Dated: October 1, 2019.
Michael Faulkender,
Assistant Secretary for Economic Policy.

[FR Doc. 2019-21912 Filed 10-7-19; 8:45 am]

BILLING CODE 4810-25-P